FEDERAL COMMUNICATIONS COMMISSION

Notice of Public Information Collection(s) Being Reviewed by the Federal Communications Commission, Comments Requested

March 7, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 18, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0717.

Title: Billed Party Preference for InterLATA 0+ Calls—CC Docket No. 92-77; 47 CFR Sections 64.703(a), 64.709, 64.710.

Form No.: N/A.

Type of Review: Extension.

Respondents: Business or Other for Profit.

Number of Respondents: 1500.

Estimated Time Per Response: 466.1 hours (avg.).

Total Annual Burden: 669,157 hours.

Estimated Annual Reporting and Recordkeeping Cost Burden: $198,000.

Frequency of Response: On occasion.

Needs and Uses: The Commission adopted rules to further the goals of 47 U.S.C. Section 226. Pursuant to Section 64.703(a), operator service providers (OSPs) are required to disclose, audibly and distinctly to the consumer, at no charge and before connecting any interstate call, how to obtain rate quotations, including any applicable surcharges. Section 64.709 codifies the requirements for OSPs to file informational tariffs with the Commission. Section 64.710 requires providers of interstate operator services of inmates at correctional institutions to identify themselves, audibly and distinctly, to the party to be billed, among other things. The disclosure rules will make it easier for callers using operator services provided at call aggregator phones, and prison-inmate phones, to obtain immediately the cost of the call, prior to the call being connected. The Commission has reviewed rates and charges contained in informational tariffs and instituted several formal as well as numerous informal investigations on receiving complaints from consumers, or on its own initiative, when OSP rates and related aggregator surcharges appeared to have been excessive.

OMB Control No.: 3060-0715.

Title: Implementation of the Telecommunications Act of 1996: Telecommunications Carriers' Use of Customer Proprietary Network Information and Other Customer Information—CC Docket No. 96-116.

Form No.: N/A.

Type of Review: Extension.

Respondents: Business or Other for Profit.

Number of Respondents: 6832.

Estimated Time Per Response: 90.28 hrs (avg.).

Total Annual Burden: 616,817 hours.

Estimated Annual Reporting and Recordkeeping Cost Burden: $229,500.

Frequency of Response: On occasion; Third party disclosure.

Needs and Uses: In CC Docket No. 96-115, the Commission established rules to implement 47 U.S.C. Section 222. The rules are intended to further Congress's goals of fostering competition in telecommunications markets and to ensure the privacy of customer information. Among other things, carriers are permitted to use CPNI, without customer approval, under certain conditions. Carriers must obtain express customer approval to use CPNI to market service outside the customer's existing service relationship. Carriers must provide a one-time notification of customers' CPNI rights prior to any solicitation for approval. Carriers must maintain such records for a period of at least one year. Carriers must implement a system by which the status of a customer's CPNI approval can be clearly established prior to the use of CPNI. Carriers must establish a supervisory review process regarding carrier compliance with the rules in 47 CFR Part 64 for outbound marketing situations. All carriers must obtain on an annual basis a certification signed by a current officer attesting that he or she has personal knowledge that the carrier is in compliance with the Commission's rules. LECs must disclose aggregate customer information to others upon request. Section 222(c)(2) requires carriers to provide a customer's CPNI to any person designated in the written authorization. Telecommunications common carriers must provide subscriber list information gathered in their capacity as providers of telephone exchange service to any person upon request for the purpose of publishing directories. Carriers are obligated to provide updated subscriber list information and notices of changes in subscriber list information to the extent those changes reflect customers decision to cease having a telephone number listed.

OMB Approval No.: 3060-0206.

Title: Part 21—Multipoint Distribution Service.

Form No.: N/A.

Type of Review: Extension of currently approved collection.

Respondents: Businesses or other for-profit.

Number of Respondents: 15,858.

Estimated Hours Per Response: Ranges from 0.083 hrs to 10 hrs depending on rule section.

Frequency of Response: On occasion.

Cost to Respondents: $1,244,000.

Estimated Total Annual Burden: 10,221 hours.

Needs and Uses: The information requested under Part 21 is used by the Commission staff to fulfill its obligations as set forth in Sections 308 and 309 of the Communications Act of 1934, as amended, to determine the technical, legal and other qualifications of applicants to operate a station in the MDS services. The information is also used to determine whether grant of an application will service the public interest, convenience and necessity, as required by Section 309 of the Communications Act. The staff also uses this information to ensure that applicants and licensees comply with the ownership and transfer restrictions imposed by Section 310 of the Act.

Federal Communications Commission.
Magalie Roman Salas,
Secretary.

[FR Doc. 01-6633 Filed 3-16-01; 8:45 am]

BILLING CODE 6712-01-P